DEPARTMENT OF COMMERCE

International Trade Administration

[A-489-813]

Notice of Termination of Antidumping Duty Investigation: Certain Processed Hazelnuts From Turkey

AGENCY: Import Administration, International Trade Administration, Department of Commerce.

EFFECTIVE DATE: February 19, 2004.

SUMMARY: On January 28, 2004, Westnut LLC, Northwest Hazelnut Company, Hazelnut Growers of Oregon, Williamette Filbert Growers, Evergreen Orchards, and Evonuk Orchards withdrew their antidumping petition, filed on October 21, 2003, regarding certain processed hazelnuts from Turkey. Based on this withdrawal, the Department of Commerce (“the Department”) is now terminating this investigation.

FOR FURTHER INFORMATION CONTACT: John Drury at 202-482-0195, Ann Barnett-Dahl at 202-482-3833, or Abdelali Elouaradia at 202-482-1374, Import Administration, International Trade Administration, U.S. Department of Commerce, 14th Street and Constitution Avenue, NW., Washington, DC 20230.

SUPPLEMENTARY INFORMATION:

Case History

On October 21, 2003, the Department of Commerce (“Department”) received an antidumping duty petition (“Petition”) filed in proper form by Westnut LLC, Northwest Hazelnut Company, Hazelnut Growers of Oregon, Willamette Filbert Growers, Evergreen Orchards, and Evonuk Orchards (“Petitioners”). Petitioners are domestic producers of certain processed hazelnuts (“hazelnuts”). The Department requested additional information for purposes of determining industry support via the Federal Register, see Notice of Request for Information and Extension of Time for Initiation: Antidumping Duty Petition on Certain Processed Hazelnuts from Turkey, 68 FR 64589-02 (November 14, 2003). The Department initiated the investigation, and notice was published in the Federal Register, see Notice of Initiation of Antidumping Investigation: Certain Processed Hazelnuts from Turkey, 68 FR 68032-01 (December 5, 2003). On December 10, 2003, the ITC determined preliminarily that there is reasonable indication that imports of certain processed hazelnuts from Turkey are causing, or threatening material injury to the U.S. industry, see International Trade Commission Notice, Certain Processed Hazelnuts from Turkey, 68 FR 70836-02 (December 19, 2003).

Scope of the Investigation

The scope of this investigation covers certain processed hazelnuts, including kernels, and kernels that have been roasted, blanched, sliced, diced, chopped, or in the following other forms: paste, meal, flour, croquant, and butter. In-shell hazelnuts are excluded from the scope of the order.

The merchandise subject to this investigation is classified in the Harmonized Tariff Schedule of the United States (“HTSUS”) at subheadings 0802.22 and 2008.19.2000. The tariff classifications are provided for convenience and Customs purposes; however, the written description of the scope of these investigations is dispositive.

Termination of the Investigation

On January 28, 2004 and January 29, 2004, the Department received letters from counsel to the Petitioners notifying the Department that the Petitioners are no longer interested in seeking relief and are withdrawing their petition for certain processed hazelnuts from Turkey. Under section 734(a)(1)(A) of the Tariff Act of 1930 (the Act), upon withdrawal of a petition, the administering authority may terminate an investigation after giving notice to all parties to the investigation. We have notified all parties to the investigation and the ITC of petitioners' withdrawal and our intention to terminate. Section 351.207(b)(1) of the Department's regulations states that the Department may terminate provided it concludes that termination is in the public interest. Based on our assessment of the public interest, we have determined that termination would be in the public interest given that the Petitioners are no longer interested in seeking relief.

Based on information currently on the record, the Department is terminating the antidumping duty investigation on certain processed hazelnuts from Turkey. This action is taken pursuant to section 734(a)(1)(A) of the Act and section 351.207(b)(1) of the Department's regulations.

Dated: February 12, 2004.
Jeffrey A. May,
Acting Assistant Secretary for Import Administration.

[FR Doc. 04-3642 Filed 2-18-04; 8:45 am]

BILLING CODE 3510-DS-P